DEPARTMENT OF HEALTH AND HUMAN SERVICES

Vaccines Federal Implementation Plan, Request for Comments; Correction

AGENCY: Office of the Assistant Secretary for Health, Office of the Secretary, Department of Health and Human Services.

ACTION: Notice; correction.

SUMMARY: The Office of the Assistant Secretary for Health published a document in the Federal Register of March 2, 2022, announcing the request for comments for the Vaccines Federal Implementation Plan. The document includes a weblink where the Vaccines Federal Implementation Plan can be found: https://www.hhs.gov/vaccines/vaccines-national-strategic-plan/vaccines-federal-implementation-plan/index.html#:~:text=The%20Vaccines%20Federal%20Implementation%20Plan%20outlines%20specific%20actions%20that%20federal,National%20Strategic%20Plan%202021%2D2025.&text=The%20public%20comment%20period%20for,2%2C%202022%20at%209%20a.m.

FOR FURTHER INFORMATION CONTACT: Dr. David Kim, Director, Division of Vaccines, U.S. Department of Health and Human Services, Office of the Assistant Secretary for Health, Room L616, Switzer Building, 330 C St. SW, Washington, DC 20024. Phone: 202-795-7697; Email: nvp.rfi@hhs.gov.

SUPPLEMENTARY INFORMATION:

Correction

In the Federal Register of March 2, 2022, in FR Doc. 2022-04327, on page 11724, in the second column, correct the subject line Meeting of the Vaccines Federal Implementation Plan to read, “Vaccines Federal Implementation Plan, Request for Comments”. We also inadvertently omitted the weblink where the implementation plan is located and can be found at https://www.hhs.gov/vaccines/vaccines-national-strategic-plan/vaccines-federal-implementation-plan/index.html#:~:text=The%20Vaccines%20Federal%20Implementation%20Plan%20outlines%20specific%20actions%20that%20federal,National%20Strategic%20Plan%202021%2D2025.&text=The%20public%20comment%20period%20for,2%2C%202022%20at%209%20a.m.

Dated: March 2, 2022.
David Kim,
Director, Division of Vaccines, Office of the Assistant Secretary for Health.

[FR Doc. 2022-04937 Filed 3-8-22; 8:45 am]

BILLING CODE 4150-44-P